GENERAL SERVICES ADMINISTRATION

[OMB Control No. 3090-0308; Docket No. 2022-0001; Sequence No. 5]

Information Collection; General Services Administration Acquisition Regulation (GSAR); Construction Contract Administration

AGENCY: Office of Acquisition Policy, General Services Administration (GSA).

ACTION: Notice and request for comments.

SUMMARY: Under the provisions of the Paperwork Reduction Act, the Regulatory Secretariat Division will be submitting to the Office of Management and Budget (OMB) a request to review and approve an extension of a previously approved information collection requirement regarding OMB Control No. 3090-0308, Construction Contract Administration.

DATES: Submit comments on or before: June 24, 2022.

ADDRESSES: Submit comments identified by Information Collection 3090-0308 via https://www.regulations.gov. Submit comments via the Federal eRulemaking portal by searching the OMB control number. Select the link “Submit a Comment” that corresponds with “Information Collection 3090-0308, Construction Contract Administration”. Follow the instructions provided at the “Submit a Comment” screen. Please include your name, company name (if any), and “Information Collection 3090-0308, Construction Contract Administration” on your attached document.

Instructions: Please submit comments only and cite Information Collection 3090-0308, Construction Contract Administration, in all correspondence related to this collection. Comments received generally will be posted without change to https://www.regulations.gov, including any personal and/or business confidential information provided. To confirm receipt of your comment(s), please check www.regulations.gov, approximately two-to-three days after submission to verify posting.

FOR FURTHER INFORMATION CONTACT: Mr. Marten Wallace, General Services Acquisition Policy Division, GSA, by phone at 202-286-5807 or by email at marten.wallace@gsa.gov.

SUPPLEMENTARY INFORMATION:

A. Purpose

The information collected is used by PBS to evaluate a contractor's proposals, negotiate contract modifications, evaluate a contractor's progress, and review payment requests during contract administration. The clause was previously GSAR 552.236-78 Shop Drawings, Coordination Drawings, and Schedules. The clause is simplified, including removing the requirement for a specific number of prints and copies of various submittals. This simplification will ease the compliance burden for the contractor during contract administration from the current state.

B. Annual Reporting Burden

Public reporting burden for GSAR 552.236-72 Submittals is estimated to average .25 hours per response, including the time for reviewing instructions, searching existing data sources, gathering and maintaining the data needed, and completing and reviewing the collection of information.

The annual reporting burden is estimated as follows:

Respondents: 890.

Responses per respondent: 5.

Total annual responses: 4,452.

Preparation hours per response: .25.

Total response burden hours: 1,113.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the GSA Regulatory Secretariat Division, by calling 202-501-4755 or emailing GSARegSec@gsa.gov.

Jeffrey A. Koses,
Senior Procurement Executive, Office of Acquisition Policy, Office of Government-wide Policy.

[FR Doc. 2022-08711 Filed 4-22-22; 8:45 am]

BILLING CODE 6820-61-P